DEPARTMENT OF HOMELAND SECURITY

Coast Guard

33 CFR Part 117

[CGD01-03-038]

Drawbridge Operation Regulations: Hackensack River, NJ

AGENCY: Coast Guard, DHS.

ACTION: Notice of temporary deviation from regulations.

SUMMARY: The Commander, First Coast Guard District, has issued a temporary deviation from the drawbridge operation regulations for the NJTRO HX Bridge, mile 7.7, across the Hackensack River at Secaucus, New Jersey. Under this temporary deviation the bridge may remain closed from 6 a.m. on May 10, 2003, through 5 p.m. on May 11, 2003, and from 6 a.m. on May 17, 2003, through 5 p.m. on May 18, 2003. This temporary deviation is necessary to facilitate structural repairs at the bridge.

DATES: This deviation is effective from May 10, 2003, through May 18, 2003.

FOR FURTHER INFORMATION CONTACT: Joe Arca, Project Officer, First Coast Guard District, at (212) 668-7165.

SUPPLEMENTARY INFORMATION: The NJTRO HX Bridge has a vertical clearance in the closed position of 4 feet at mean high water and 9 feet at mean low water. The existing drawbridge operation regulations are listed at 33 CFR 117.723(5)(e).

The bridge owner, New Jersey Transit Operation (NJTRO), requested a temporary deviation from the drawbridge operation regulations to facilitate necessary maintenance, the replacement of timber railroad ties on the moveable span. The bridge must remain in the closed position to perform these repairs.

The Coast Guard coordinated this closure with the mariners who normally use this waterway to help facilitate this necessary bridge repair and to minimize any disruption to the marine transportation system.

Under this temporary deviation the NJTRO HX Bridge may remain in the closed position from 6 a.m. on May 10, 2003, through 5 p.m. on May 11, 2003, and from 6 a.m. on May 17, 2003, through 5 p.m. on May 18, 2003.

This deviation from the operating regulations is authorized under 33 CFR § 117.35, and will be performed with all due speed in order to return the bridge to normal operation as soon as possible.

Dated: April 28, 2003.
John L. Grenier,
Captain, U.S. Coast Guard, Acting Commander, First Coast Guard District.

[FR Doc. 03-11602 Filed 5-8-03; 8:45 am]

BILLING CODE 4910-15-P